AFRICAN DEVELOPMENT FOUNDATION

African Development Meeting; Board of Directors Meeting

Time: 11 a.m. to 5 p.m.

Place: ADF Headquarters.

Date: Wednesday, 16 June 2004.

Status: Open (11 a.m. to 3 p.m.), Closed Executive Session (3 p.m. to 5 p.m.).

Agenda

11 a.m.—Chairman's Report

11:30 a.m.—President's Report

3 p.m.—Closed Executive Session

5 p.m.—Adjournment

If you have any questions or comments, please direct them to Doris Martin, General Counsel, who may be reached at (202) 673-3916.

Nathaniel Fields,
President.

[FR Doc. 04-13357 Filed 6-8-04; 4:18 pm]

BILLING CODE 6116-01-P